FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 12, 2014.

A. Federal Reserve Bank of Atlanta (Chapelle Davis, Assistant Vice President) 1000 Peachtree Street, NE., Atlanta, Georgia 30309:

1. Frank Joseph Hanna, Jr., Summerville, Georgia; to acquire voting shares of Urban Trust Holdings, Inc., and thereby indirectly acquire voting shares of Urban Trust Bank, both in Lake Mary, Florida.

B. Federal Reserve Bank of Minneapolis (Jacqueline K. Brunmeier, Assistant Vice President) 90 Hennepin Avenue, Minneapolis, Minnesota 55480-0291:

1. Gloria S. Sundquist, individually, Carl E. Sundquist, both of Cut Bank, Montana; Mary Lou Gordon, Great Falls, Montana; and Carrie L. Vollrath, Conrad, Montana, as members of the Sundquist Family Group; to retain voting shares of Dutton Bancorporation, Inc., and thereby indirectly retain voting shares of Dutton State Bank, both in Dutton, Montana.

2. Mark Stephens, Dutton, Montana; Chris Stephens, Great Falls, Montana; Andrea S. Swing, Manhattan, Montana; and Tyler Stephens, Augusta, Montana, as a group acting in concert with Robert E. Stephens and Robert Stephens, Jr., all as members of The Stephens Family Group; to retain voting shares of Dutton Bancorporation, Inc., and thereby indirectly retain voting shares of Dutton State Bank, both in Dutton, Montana.

3. Robert Kruse, Saint Clair, Minnesota, and William Miller, Saint Peter, Minnesota; to acquire voting shares of Saint Clair Agency, Inc., and thereby indirectly acquire voting shares of Saint Clair State Bank, both in Saint Clair, Minnesota.

C. Federal Reserve Bank of Kansas City (Dennis Denney, Assistant Vice President) 1 Memorial Drive, Kansas City, Missouri 64198-0001:

1. Beth Ann Niketas, Plano, Texas; and Brian Shipp, Idabel, Oklahoma; as individuals and as members of the Shipp family group, and/or as trustees of the following trusts: the Mackenzie Shipp Trust, the Harrison Shipp Trust, the Shelby Niketas Trust, the Craig Holman Trust, the Alec Niketas Trust, the John Niketas Trust, and the Kathryn Holman Trust, all of Idabel, Oklahoma (all of which were created under the Shipp Grandchildren Irrevocable Trust Agreement of 1996); to retain voting shares of Southeast Capital Corporation, and thereby indirectly retain voting shares of Idabel National Bank, both in Idabel, Oklahoma.

D. Federal Reserve Bank of Dallas (E. Ann Worthy, Vice President) 2200 North Pearl Street, Dallas, Texas 75201-2272:

1. Linda Ellis McGarraugh, individually, and together with Benjamin Drew Ellis, II, Dennis Scott McGarraugh, all of Perryton, Texas; Drew S. McGarraugh, Kris McGarraugh Wooten, both of Edmond, Oklahoma; Carl W. Ellis, Imperial Beach, California, as Trustee of the Carl Ellis Separate Property FPB Stock Revocable Trust and as Co-Trustee of the Ellis Family Trust; and Julianne Ellis, Imperial Beach, California, as Co-Trustee of the Ellis Family Trust; the Carl Ellis Separate Property FPB Stock Revocable Trust, Perryton, Texas; and the Ellis Family Trust, Imperial Beach, California; to acquire voting shares of FirstPerryton Bancorp, Inc., Perryton, Texas, and thereby indirectly acquire voting shares of FirstBank Southwest, Amarillo, Texas.

Board of Governors of the Federal Reserve System, January 23, 2014.
Michael J. Lewandowski,
Associate Secretary of the Board.

[FR Doc. 2014-01550 Filed 1-27-14; 8:45 am]

BILLING CODE 6210-01-P